ENVIRONMENTAL PROTECTION AGENCY

40 CFR Part 52 and 70

[R07-OAR-2005-NE-0001; FRL-7893-9]

Approval and Promulgation of Implementation Plans and Operating Permits Program; State of Nebraska

AGENCY: Environmental Protection Agency (EPA).

ACTION: Proposed rule.

SUMMARY: EPA proposes to approve revisions to the State Implementation Plan (SIP) and Operating Permits Program submitted by the state of Nebraska. These revisions provide or incorporate rules for Predictive Emissions Monitoring Systems (PEMS) in Chapter 34, delete obsolete footnotes from Appendix III (relating to emissions inventories for hazardous air pollutants under the state's operating permit program), correct a mistakenly worded rule in Chapter 20 (relating to process weight rates for particulate matter from certain sources), and improve understanding of Chapter 20 by consolidating the process weight rates into a single table. Approval of these revisions will ensure consistency between the state and Federally-approved rules, and ensure Federal enforceability of the state's revised air program rules.

DATES: Comments on this proposed action must be received in writing by May 2, 2005.

ADDRESSES: Comments may be mailed to Shelly Rios-LaLuz, Environmental Protection Agency, Air Planning and Development Branch, 901 North 5th Street, Kansas City, Kansas 66101. Comments may also be submitted electronically or through hand delivery/courier; please follow the detailed instructions in the Addresses section of the direct final rule which is located in the rules section of this Federal Register.

FOR FURTHER INFORMATION CONTACT: Shelly Rios-LaLuz at (913) 551-7296, or by e-mail at rios.shelly@epa.gov.

SUPPLEMENTARY INFORMATION: In the final rules section of the Federal Register, EPA is approving the state's submittal as a direct final rule without prior proposal because the Agency views this as a noncontroversial revision amendment and anticipates no relevant adverse comments to this action. A detailed rationale for the approval is set forth in the direct final rule. If no relevant adverse comments are received in response to this action, no further activity is contemplated in relation to this action. If EPA receives relevant adverse comments, the direct final rule will be withdrawn and all public comments received will be addressed in a subsequent final rule based on this proposed action. EPA will not institute a second comment period on this action. Any parties interested in commenting on this action should do so at this time. Please note that if EPA receives adverse comment on part of this rule and if that part can be severed from the remainder of the rule, EPA may adopt as final those parts of the rule that are not the subject of an adverse comment. For additional information, see the direct final rule which is located in the rules section of this Federal Register.

Dated: March 21, 2005.
James B. Gulliford,
Regional Administrator, Region 7.

[FR Doc. 05-6368 Filed 3-30-05; 8:45 am]

BILLING CODE 6560-50-P